ENVIRONMENTAL PROTECTION AGENCY

40 CFR Part 52

[R06-OAR-2005-NM-0002; FRL—7908-1]

Approval and Promulgation of Air Quality Implementation Plans; New Mexico; San Juan County Early Action Compact Area

AGENCY: Environmental Protection Agency (EPA).

ACTION: Proposed rule.

SUMMARY: The EPA is proposing to approve revisions to the State Implementation Plan (SIP) submitted by the Governor of New Mexico on December 16, 2004. The proposed revisions will incorporate the Early Action Compact (EAC) Clean Air Action Plan into the New Mexico SIP. The EAC is a voluntary program between the New Mexico Department of Environment (NMED), the Cities of Aztec, Bloomfield, and Farmington, San Juan County, and EPA. EPA is proposing approval of the photochemical modeling in support of the attainment demonstration of the 8-hour ozone standard within the San Juan County EAC area. EPA is proposing these actions as a strengthening of the SIP in accordance with the requirements of sections 110 and 116 of the Federal Clean Air Act (the Act). The revisions will contribute to improvement in air quality and continued attainment of the 8-hour National Ambient Air Quality Standard (NAAQS) for ozone.

DATES: Comments must be received on or before June 3, 2005.

ADDRESSES: Submit your comments, identified by Regional Material in EDocket (RME) ID No. R06-OAR-2005-NM-0002, by one of the following methods:

Federal eRulemaking Portal: http://www.regulations.gov. Follow the on-line instructions for submitting comments.

Agency Web site: http://docket.epa.gov/rmepub/ Regional Material in EDocket (RME), EPA's electronic public docket and comment system, is EPA's preferred method for receiving comments. Once in the system, select “quick search,” then key in the appropriate RME Docket identification number. Follow the on-line instructions for submitting comments.

U.S. EPA Region 6 “Contact Us” Web site: http://epa.gov/region6/r6coment.htm Please click on “6PD” (Multimedia) and select “Air” before submitting comments.

E-mail: Mr. Thomas Diggs at diggs.thomas@epa.gov. Please also cc the person listed in the FOR FURTHER INFORMATION CONTACT section below.

Fax: Mr. Thomas Diggs, Chief, Air Planning Section (6PD-L), at fax number 214-665-7263.

Mail: Mr. Thomas Diggs, Chief, Air Planning Section (6PD-L), Environmental Protection Agency, 1445 Ross Avenue, Suite 1200, Dallas, Texas 75202-2733.

Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Regional Material in EDocket (RME) ID No. R06-OAR-2005-NM-0002. The EPA's policy is that all comments received will be included in the public file without change, change and may be made available online at http://docket.epa.gov/rmepub/, including any personal information provided, unless the comment includes information claimed to be Confidential Business Information (CBI) or other information the disclosure of which is restricted by statute. Do not submit information through Regional Material in EDocket (RME), regulations.gov, or e-mail if you believe that it is CBI or otherwise protected from disclosure. The EPA RME Web site and the Federal regulations.gov are “anonymous access” systems, which means EPA will not know your identity or contact information unless you provide it in the body of your comment. If you send an e-mail comment directly to EPA without going through RME or regulations.gov, your e-mail address will be automatically captured and included as part of the comment that is placed in the public file and made available on the Internet. If you submit an electronic comment, we recommend that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in the official file which is available at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

New Mexico Environment Department, Air Quality Bureau, 2048 Galisteo, Santa Fe, New Mexico 87505.

FOR FURTHER INFORMATION CONTACT: Mr. Alan Shar, Air Planning Section (6PD-L), EPA Region 6, 1445 Ross Avenue, Dallas, Texas 75202-2733, telephone (214) 665-6691, shar.alan@epa.gov.

SUPPLEMENTARY INFORMATION:

Table of Contents

I. What action are we proposing?

II. What is an EAC?

III. What is a SIP?

IV. What is the content of San Juan EAC attainment demonstration?

V. Why are we proposing to approve this EAC SIP submittal?

VI. What measures are included in this EAC submittal?

VII. What happens if San Juan County does not meet the EAC milestones?

VIII. Proposed Action

IX. Statutory and Executive Order Reviews

Throughout this document “we,” “us,” and “our” refer to EPA.

I. What Action Are We proposing?

Today we are proposing to approve a revision to the New Mexico SIP under sections 110 and 116 of the Act, as a strengthening of the SIP. This revision will incorporate the San Juan County EAC Clean Air Action Plan into the New Mexico SIP. The EAC is a voluntary agreement between the NMED, the Cities of Aztec, Bloomfield, and Farmington, San Juan County, and EPA. The geographic area included in this EAC consists of San Juan County, with the exception of the Navajo Nation and the Ute Mountain Reservation. See section II of this document for more information on the EAC. The intent of this agreement, known as the San Juan County EAC, is to reduce ozone pollution and thereby maintain the 8-hour ozone standard. The San Juan County EAC sets forth a schedule to develop technical information about ozone pollution, and adopt and implement a Clean Air Action Plan, consisting of emissions control measures to ensure San Juan County achieves compliance with the 8-hour ozone standard by December 31, 2007. The revision also includes an attainment demonstration and associated local voluntary measures.

II. What Is an EAC?

The Early Action Compact was developed to allow communities an opportunity to reduce emissions of ground level ozone pollution sooner than the Act requires. The EAC program was designed for areas that approach or monitor exceedences of the 8-hour ozone standard, but are in attainment for the 1-hour ozone standard. The compact is a voluntary agreement between local communities, States and tribal air quality officials, and EPA which allows States and local entities to make decisions that will accelerate meeting the new 8-hour ozone standard using locally tailored pollution controls instead of Federally mandated control measures. Early planning and early implementation of control measures that improve air quality will likely accelerate protection of public health. The EPA believes the EAC program provides an incentive for early planning, early implementation, and early reductions of air emissions in the affected areas, thus leading to an expeditious attainment and maintenance of the 8-hour ozone standard.

Communities with EACs will have plans in place to reduce air pollution at least two years earlier than required by the Act. In December 2002, a number of States submitted compact agreements pledging to reduce emissions earlier than required for compliance with the 8-hour ozone standard. These States and local communities had to meet specific criteria, and agreed to meet certain milestones for development and implementation of the compact. States with communities participating in the EAC program had to submit implementation plans for meeting the 8-hour ozone standard by December 31, 2004, rather than June 15, 2007, the deadline for all other areas not meeting the 8-hour standard. The EAC program required communities to develop and implement air pollution control strategies, account for emissions growth, and demonstrate their attainment and maintenance of the 8-hour ozone standard. For more information on the EAC program see section V of our December 16, 2003 (68 FR 70108) publication entitled “Deferral of Effective Date of Nonattainment Designations for 8-hour Ozone National Ambient Air Quality Standards for Early Action Compact Areas.”

On April 15, 2004, EPA designated all areas for the 8-hour ozone standard. The EPA deferred the effective date of nonattainment designations for those EAC areas that were violating the 8-hour standard but continue to meet the compact milestones. We announced the details of this deferral on April 15, 2004 as part of the Clean Air Rules of 2004. See our April 30, 2004 (69 FR 23858) publication entitled “Air Quality Designations and Classifications for the 8-Hour Ozone National Ambient Air Quality Standards; Early Action Compact Areas with Deferred Effective Dates.”

III. What Is a SIP?

The SIP is a set of air pollution regulations, control strategies and technical analyses developed by the state, to ensure that the state meets the NAAQS. These ambient standards are established under section 109 of the Act and they currently address six criteria pollutants: Carbon monoxide, nitrogen dioxide, ozone, lead, particulate matter, and sulfur dioxide. The SIP is required by Section 110 of the Act. These SIPs can be extensive, containing state regulations or other enforceable documents and supporting information such as emission inventories, monitoring networks, and modeling demonstrations.

IV. What Is The Content Of The San Juan EAC Attainment Demonstration?

In support of this proposal, the NMED conducted an ozone photochemical modeling study developed for the Four Corners/San Juan air basin. This study meets EPA's modeling requirements and guidelines, including such items as the base year inventory development, the growth rate projections, and the performance of the model. See our Technical Support Document (TSD) for more information about this modeling study. The modeling submitted in support of this proposal demonstrates that San Juan EAC area would be in attainment with the 8-hour ozone NAAQS in 2007 and 2012. The modeling results for the Four Corners/San Juan air basin show or predict a maximum ozone design value of 74.78 parts per billion (ppb) for the 2007. This predicted maximum design value is well below the 8-hour ozone limit of 85 ppb. In fact, the San Juan EAC area would attain the 8-hour ozone NAAQS absent requiring additional local control measures or emissions reductions. See section VI of this document for a list of adopted measures as a part of this EAC. Therefore, we are proposing to approve NMED's EAC 8-hour ozone attainment demonstration plan for the Four Corners/San Juan air basin.

V. Why Are We Proposing To Approve This EAC SIP Submittal?

We are proposing to approve this EAC SIP submittal because implementing the requirements in the San Juan EAC Clean Air Action Plan will help ensure San Juan County's continued compliance with the 8-hour ozone standard through December 31, 2007. We have reviewed the submittal and determined that it is consistent with the requirements of the Act, EPA's policy, and EAC's protocol. Our TSD contains more information concerning this rulemaking action.

VI. What Measures Are Included In This EAC Submittal?

The ozone concentrations in San Juan County have not exceeded the federal 1-hour ozone standard during the past several years. While the ozone concentrations in this EAC area have not exceeded the federal 8-hour ozone standard and are not projected to exceed the 8-hour standard in 2012, there has been an upward trend in the 8-hour ozone levels. The NMED has submitted this revision to the SIP as a preventive and progressive measure to avoid potential violations of the 8-hour standard within the affected area. The measures adopted in this EAC are as follows: (a) Reporting progress toward set milestones, at least, once every six months, (b) building upon EPA's national emission inventory for the area, and including additional emissions estimates particularly from oil and gas exploration and production activities to that inventory, (c) performing base case and future case photochemical modeling in conformance with EPA's guidance documents, (d) conducting additional future modeling runs focused on growth scenarios, (e) making information and reports available to the public via Web page http://www.nmenv.state.nm.us/ozoneetf, (f) conducting a public outreach campaign comprised of activities such as developing public service announcements, and creating educational materials for high school age children, and (g) administering a Voluntary Innovative Strategies for Today's Air Standards (VISTAS) aimed at the improvement of air quality in northwestern New Mexico. The purpose of San Juan VISTAS is to identify, promote, and implement cost-effective technologies and best management practices to reduce ozone precursor emissions in northwestern New Mexico. Oxides of nitrogen (NOX) and volatile organic compounds (VOC) are ozone precursors. For more information on VISTAS, see http://www.nmenv.state.nm.us/aqb/projects/SJV/index.html. On March 3, 2005, NMED announced that Burlington Resources, Inc., San Juan Division has agreed to become the first participant in the VISTAS program. Burlington Resources will be focusing on reducing emissions of NOX and VOCs at well sites by implementing improved oil and gas well venting practices, insulating well site equipment, and optimizing operation of company's compressor fleet.

For compliance and milestone determination purposes the San Juan EAC area has already started implementing the above measures, prior to the December 31, 2005 EAC deadline, on an on-going basis.

VII. What Happens If San Juan County Does Not Meet The EAC Milestones?

On April 15, 2004, EPA designated the San Juan County area as attainment for the 8-hour ozone standard. The measures outlined in this submittal provide sufficient information to conclude that the San Juan County EAC area will complete each compact milestone requirement, including attainment of the 8-hour ozone standard by 2007. However, one of the principles of the EAC protocol is to provide safeguards to return areas to traditional SIP requirements should an area fail to comply with the terms of the compact. If, as outlined in our guidance and in 40 CFR 81.300, a compact milestone is missed and the San Juan County EAC area is still in attainment of the 8-hour ozone standard, we would take action to propose and promulgate a finding of failure to meet the milestone, but the ozone attainment designation and the approved SIP elements would remain in effect. If the EAC area subsequently violates the 8-hour ozone standard and the area has missed a compact milestone, we would also consider factors in section 107(d)(3)( A) of the Act in deciding whether to redesignate the EAC area to nonattainment for the 8-hour ozone NAAQS.

VIII. Proposed Action

The EPA is proposing to approve the aforementioned changes to New Mexico's SIP because the revisions are consistent with the Act and EPA regulatory requirements. See sections IV and VI of this document for more information.

IX. Statutory and Executive Order Reviews

Under Executive Order 12866 (58 FR 51735, October 4, 1993), this proposed action is not a “significant regulatory action” and therefore is not subject to review by the Office of Management and Budget. For this reason and because this action will not have a significant, adverse effect on the supply, distribution, or use of energy, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). Although Executive Order 13175 does not apply to this rule, tribal officials, through their participation in the Four Corners Ozone Task Force, have been active in the development of this rule. This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions under the National Technology Transfer and Advancement Act of 1995 (15 U.S.C. 272 note), EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 do not apply. This proposed rule does not impose an information collection burden under the provisions of the Paperwork Reduction Act of 1995 (44 U.S.C. 3501 et seq.).

List of Subjects in 40 CFR Part 52

Environmental protection, Air pollution control, Ozone, Nitrogen oxide, Reporting and recordkeeping requirements.

Authority: 42 U.S.C. 7401 et seq.

Dated: April 26, 2005.
Richard E. Greene,
Regional Administrator, Region 6.

[FR Doc. 05-8867 Filed 5-3-05; 8:45 am]

BILLING CODE 6560-50-P